DEPARTMENT OF STATE

[Public Notice 4793]

Determination Pursuant to Section 2(b)(6) of the Export-Import Bank Act of 1945

Pursuant to section 2(b)(6) of the Export-Import Bank Act of 1945, as amended (the “Act”), Executive Order 11958 of January 18, 1977, as amended by Executive Order 12680 of July 5, 1989, and State Department Delegation of Authority No. 245 of April 23, 2001, I hereby determine that:

(1) The defense articles or services for which the Government of Colombia has requested an Export-Import Bank (Ex-Im Bank) guarantee or insurance, six Elbit weapons management and delivery system kits for installation by Sikorsky Aircraft Corporation on Colombian Air Force helicopters, are being sold primarily for anti-narcotics purposes and to support Colombia's campaign against narcotics trafficking.

(2) The sale of such defense articles or services is in the national interest of the United States.

(3) Pursuant to section 706(5) of the Foreign Relations Authorization Act of FY 2003 (Pub. L. 107-228), section 2291j(e) of title 22, United States Code, does not apply with respect to Colombia.

(4) The Government of Colombia has complied with all U.S.-imposed end use restrictions on the use of defense articles or services previously financed under the Act.

(5) The Government of Colombia has not engaged in a consistent pattern of gross violations of internationally recognized human rights, taking into consideration whether Colombia has engaged in or tolerated particularly severe violations of religious freedom or has failed to undertake serious and sustained efforts to combat particularly severe violations of religious freedom when such efforts could have been reasonably undertaken.

This determination shall be reported to Congress and shall be published in the Federal Register.

Dated: June 22, 2004.
Richard L. Armitage,
Deputy Secretary of State, Department of State.

[FR Doc. 04-17519 Filed 7-30-04; 8:45 am]

BILLING CODE 4710-29-P